DEPARTMENT OF TRANSPORTATION

Federal Aviation Administration

14 CFR Part 39

[Docket No. FAA-2025-0211; Project Identifier MCAI-2023-00706-R; Amendment 39-23035; AD 2025-10-01]

RIN 2120-AA64

Airworthiness Directives; Airbus Helicopters

AGENCY: Federal Aviation Administration (FAA), DOT.

ACTION: Final rule.

SUMMARY: The FAA is adopting a new airworthiness directive (AD) for certain Airbus Helicopters Model AS350B2, AS350B3, and EC130B4 helicopters. This AD was prompted by reports of broken cargo swing frames and the determination to change an existing repetitive inspection threshold. This AD requires repetitively inspecting the cargo swing installation and frame and, depending on the results, performing corrective action, as specified in a European Union Aviation Safety Agency (EASA) AD, which is incorporated by reference. The FAA is issuing this AD to address the unsafe condition on these products.

DATES: This AD is effective July 11, 2025.

The Director of the Federal Register approved the incorporation by reference of a certain publication listed in this AD as of July 11, 2025.

ADDRESSES:

AD Docket: You may examine the AD docket at regulations.gov under Docket No.FAA-2025-0211; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0211.

FOR FURTHER INFORMATION CONTACT: Steven Warwick, Aviation Safety Engineer, FAA, 1600 Stewart Avenue, Suite 410, Westbury, NY 11590; phone: (817) 222-5225; email: steven.r.warwick@faa.gov.

SUPPLEMENTARY INFORMATION:

Background

The FAA issued a notice of proposed rulemaking (NPRM) to amend 14 CFR part 39 by adding an AD that would apply to certain Airbus Helicopters Model AS350B2, AS350B3, and EC130B4 helicopters. The NPRM was published in the Federal Register on February 25, 2025 (90 FR 10619). The NPRM was prompted by EASA AD 2023-0107, dated May 26, 2023 (EASA AD 2023-0107) (also referred to as the MCAI), issued by EASA, which is the Technical Agent for the Member States of the European Union. The MCAI states there have been reports of a broken cargo swing frame during a flight transition to hover, resulting in loss of the load. Subsequent investigation revealed that the interval for the repetitive inspections of the swing cargo installation, currently defined in operating hours in the applicable aircraft maintenance manual (AMM), must be based on sling cycles (SC), and that certain cargo swing installations have been operated beyond the applicable repetitive inspection interval based on SC.

In the NPRM, the FAA proposed to require repetitively inspecting the cargo swing installation and frame and, depending on the results, performing corrective action, as specified in EASA AD 2023-0107. The FAA is issuing this AD to address the unsafe condition on these products.

You may examine the MCAI in the AD docket at regulations.gov under Docket No. FAA-2025-0211.

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2023-0107, which specifies procedures for a one-time inspection of the cargo swing installation and frame for an anomaly, which may be indicated by a crack, distortion, scratch, hammering mark, or impact mark. Depending on the results, EASA AD 2023-0107 specifies contacting AH [Airbus Helicopters] for approved corrective action instructions and accomplishing those instructions accordingly. This material is reasonably available because the interested parties have access to it through their normal course of business or by the means identified in the ADDRESSES section.

Differences Between This AD and the MCAI

The material referenced in EASA AD 2023-0107 specifies that certain procedures may be done by a pilot with correct training and accreditation, whereas this AD requires those actions be accomplished by persons authorized under 14 CFR 43.3. EASA AD 2023-0107 defines the acronym “SC” as swing cycles, whereas this AD and the alert service bulletin (ASB) referenced in EASA AD 2023-0107 define SC as sling cycles. EASA AD 2023-0107 requires a one-time inspection, whereas this AD requires repetitive inspections to require the updated threshold on an on-going basis. Depending on the inspection results, EASA AD 2023-0107 specifies contacting AH [Airbus Helicopters] to obtain approved corrective action instructions and accomplishing those instructions, whereas this AD requires replacing the cargo swing frame.

Costs of Compliance

The FAA estimates that this AD affects 1,184 helicopters of U.S. registry. Labor rates are estimated at $85 per hour. Based on these numbers, the FAA estimates the following costs to comply with this AD.

Visually inspecting the cargo swing installation and frame takes 2 work-hours for an estimated cost of $170 per helicopter and $201,280 for the U.S. fleet. If required, dye penetrant inspecting the cargo swing installation and frame takes 6 work-hours for an estimated cost of $510 per helicopter. Replacing the cargo swing frame takes 4 work-hours and the part costs $25,507, for an estimated cost of $25,847 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-10-01 Airbus Helicopters: Amendment 39-23035; Docket No. FAA-2025-0211; Project Identifier MCAI-2023-00706-R.

(a) Effective Date

This airworthiness directive (AD) is effective July 11, 2025.

(b) Affected ADs

None.

(c) Applicability

This AD applies to Airbus Helicopters Model AS350B2, AS350B3, and EC130B4 helicopters, certificated in any category, as identified in European Union Aviation Safety Agency AD 2023-0107, dated May 26, 2023; corrected June 2, 2023 (EASA AD 2023-0107).

(d) Subject

Joint Aircraft System Component (JASC) Code 2500, Cabin Equipment/Furnishings.

(e) Unsafe Condition

This AD was prompted by reports of broken cargo swing frames and the determination to change an existing repetitive inspection threshold. The FAA is issuing this AD to prevent failure of a cargo swing frame. The unsafe condition, if not addressed, could result in failure of a cargo swing frame, in-flight loss of load, and consequent damage to and reduced control of the helicopter.

(f) Compliance

Comply with this AD within the compliance times specified, unless already done.

(g) Requirements

Except as specified in paragraphs (h) and (i) of this AD: Comply with all required actions and compliance times specified in, and in accordance with, EASA AD 2023-0107.

(h) Exceptions to EASA AD 2023-0107

(1) Where EASA AD 2023-0107 refers to its effective date, this AD requires using the effective date of this AD.

(2) Where EASA AD 2023-0107 defines SC as “swing cycles,” this AD requires replacing that text with “sling cycles.”

(3) Where the material referenced in EASA AD 2023-0107 specifies that certain procedures may be done by a pilot with correct training and accreditation, this AD requires that those actions be accomplished by persons authorized under 14 CFR 43.3.

(4) Where paragraph (1) of EASA AD 2023-0107 states “within the compliance time specified in Table 1 of this AD, as applicable,” this AD requires replacing that text with “within the compliance time specified in Table 1 of this AD, as applicable, and thereafter at intervals not to exceed 12 months and 36 days or 550 SC, whichever occurs first.”

(5) Where the AMM task, as defined in EASA AD 2023-0107, specifies dye penetrant inspecting the cargo swing installation and frame if in doubt if there is a crack, this AD requires dye penetrant inspecting the cargo swing installation and frame if, as a result of the visual inspection, there is a line having no visible gap or misalignment to determine if the line is a scratch or a crack.

Note 1 to paragraph (h)(5): Entering compliance into helicopter maintenance records showing that a dye penetrant inspection was performed improves the accuracy of maintenance records regarding use of dye penetrant inspection dye.

(6) Instead of complying with paragraph (2) of EASA AD 2023-0107, comply with the following, “As a result of the actions required by paragraph (1) of EASA AD 2023-0107, if there is a distortion, scratch, hammering mark, or impact mark that exceeds the allowable limit, or any crack, gap, or misalignment, before further flight, remove the cargo swing frame from service and replace it with an airworthy cargo swing frame.”

(7) This AD does not adopt the “Remarks” section of EASA AD 2023-0107.

(i) No Reporting Requirement

Although the material referenced in EASA AD 2023-0107 specifies to submit certain information to the manufacturer, this AD does not require that action.

(j) Special Flight Permit

Special flight permits may be issued in accordance with 14 CFR 21.197 and 21.199, provided no external cargo or person(s) is hoisted.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local flight standards district office/certificate holding district office.

(l) Additional Information

For more information about this AD, contact Steven Warwick, Aviation Safety Engineer, FAA, 1600 Stewart Avenue, Suite 410, Westbury, NY 11590; phone: (817) 222-5225; email: steven.r.warwick@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0107, dated May 26, 2023; corrected June 2, 2023.

(ii) [Reserved]

(3) For EASA material identified in this AD, contact EASA, Konrad-Adenauer-Ufer 3, 50668 Cologne, Germany; phone: +49 221 8999 000; email: ADs@easa.europa.eu; website: easa.europa.eu. You may find this EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 7, 2025.
Steven W. Thompson,
Acting Deputy Director, Compliance & Airworthiness Division, Aircraft Certification Service.

[FR Doc. 2025-10331 Filed 6-5-25; 8:45 am]

BILLING CODE 4910-13-P